COMMISSION ON CIVIL RIGHTS

Notice of Public Meeting of the California Advisory Committee; Update

AGENCY: Commission on Civil Rights.

ACTION: Notice; revision to meeting type, update time and agenda.

SUMMARY: The Commission on Civil Rights published a notice in the Federal Register on Wednesday, April 6, 2022, concerning a business meeting of the California Advisory Committee.

FOR FURTHER INFORMATION CONTACT: Brooke Peery, bpeery@usccr.gov.

Update: In the Federal Register on Wednesday, April 6, 2022, in FR Document Number 2022-07265, on page 19853, first and second columns, change the June 15, 2022, Business Meeting into a web Briefing.

Date: Wednesday, June 15, 2022, from 1:30 p.m. to 4:00 p.m. Pacific Time.

Webex Registration Link:

Agenda

I. Welcome & Opening Remarks

II. Panelist Testimony

III. Committee Q&A

IV. Public Comment

V. Adjournment

Dated: May 5, 2022.
David Mussatt,
Supervisory Chief, Regional Programs Unit.

[FR Doc. 2022-09974 Filed 5-9-22; 8:45 am]

BILLING CODE P